LEGAL SERVICES CORPORATION

Sunshine Act Meetings

TIME AND DATE: The Legal Services Corporation (LSC) Board of Directors and its committees will meet March 26-28, 2023. On Sunday, March 26, the first meeting will begin at 1:00 p.m. ET, with the next meeting commencing promptly upon adjournment of the immediately preceding meeting. On Monday, March 27, the first meeting will begin at 8:30 a.m. ET, with the next meeting commencing promptly upon adjournment of the immediately preceding meeting. On Tuesday, March 28, the first meeting will begin at 8:30 a.m. ET, with the next meeting commencing promptly upon adjournment of the immediately preceding meeting.

PLACE: Public Notice of Hybrid Meeting.

LSC will conduct its March 26-28, 2023, meetings at the offices of the Legal Services Corporation, 3333 K Street NW, Washington, DC 20007, and virtually via Zoom.

Public Observation: Unless otherwise noted herein, the Board and all committee meetings will be open to public observation. Members of the public who wish to participate virtually in the public proceedings may do so by following the directions provided below.

Directions for Open Sessions

Sunday, March 26, 2023

• To join the Zoom meeting by computer, please use this link.

○ https://lsc-gov.zoom.us/j/86538109323?pwd=UURiMWg1U1Q5cjBXK0FaczdPSkQ2dz09

○ Meeting ID: 865 3810 9323

○ Passcode: 32623

Monday, March 27, 2023

• To join the Zoom meeting by computer, please use this link.

○ https://lsc-gov.zoom.us/j/84640983491?pwd=SEdkU2JKaGliTW95VEMyRFFha0Jvdz09

○ Meeting ID: 846 4098 3491

○ Passcode: 32723

Tuesday, March 28, 2023

• To join the Zoom meeting by computer, please use this link.

○ https://lsc-gov.zoom.us/j/87821771015?pwd=RXIxL2NhZFhrbklrWmRwMUcveUNkUT09

○ Meeting ID: 878 2177 1015

○ Passcode: 32823

○ If calling from outside the U.S., find your local number here: https://lsc-gov.zoom.us/u/acCVpRj1FD

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Audit Committee—Open, except that, upon a vote of the Board of Directors, the meeting may be closed to the public to discuss follow-up work by the Office of Compliance and Enforcement relating to open Office of Inspector General investigations.

Governance and Performance Review Committee—Open, except that, upon a vote of the Board of Directors, the meeting may be closed to the public to hear a report on the evaluation of LSC's officers, including Vice President for Grants Management, Vice President for Government Relations and Public Affairs, Vice President for Legal Affairs and General Counsel, and Chief Financial Officer and Treasurer.

Institutional Advancement Committee—Open, except that, upon a vote of the Board of Directors, the meeting may be closed to the public to receive a briefing on development activities and discuss prospective new Leaders Council and Emerging Leaders Council members.

Combined Audit and Finance Committee—Open, except that, upon a vote of the Board of Directors, the meeting may be closed to the public to hear a briefing from the Corporation's outside auditor and discuss the Fiscal Year 2022 Audited Financial Statements. The briefing may include names of individuals, facts complied for investigative purposes, investigative techniques and procedures, and analysis of the facts and applicable law for enforcement purposes.

Board of Directors—Open, except that, upon a vote of the Board of Directors, a portion of the meeting may be closed to the public to receive briefings by management and LSC's Inspector General and to consider and act on the General Counsel's report on potential and pending litigation involving LSC. The Board also will consider and act on a list of prospective Leaders Council and Emerging Leaders Council members and a recommendation from the Inspector General Search Committee.

Any portion of the closed session consisting solely of briefings does not fall within the Sunshine Act's definition of the term “meeting” and, therefore, the requirements of the Sunshine Act do not apply to such portions of the closed session.¹

¹ 5 U.S.C. 552b (a) (2) and (b). See also 45 CFR 1622.2 & 1622.3.

A verbatim written transcript will be made of the closed sessions of the Audit, Governance and Performance Review, Institutional Advancement, Combined Audit and Finance, and Board of Directors meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Sunday, March 26, 2023

Audit Committee Meeting

Start Time: 1:00 p.m. ET

Open Session

1. Approval of Agenda

2. Approval of Minutes of the Committee's Open Session Meeting on January 22, 2023

3. Briefing by the Office of Inspector General

4. Management Update Regarding Risk Management

5. Briefing about Follow-up by the Office of Compliance and Enforcement on Referrals by the Office of Inspector General Regarding Audit Reports and Annual Financial Statement Audits of Grantees

6. Public Comment

7. Consider and Act on Other Business

8. Consider and Act on Motion to Adjourn the Open Session Meeting and Proceed to a Closed Session

Closed Session

9. Approval of Minutes of the Committee's Closed Session Meeting on January 22, 2023

10. Briefing by Office Compliance and Enforcement on Active Enforcement Matter(s) and Follow-Up on Open Investigation Referrals from the Office of Inspector General

11. Consider and Act on Motion to Adjourn the Meeting

Sunday, March 26, 2023

Governance & Performance Review Committee Meeting

Open Session

1. Approval of Agenda

2. Approval of Minutes of the Committee's Open Session Meeting on January 23, 2023

3. Public Comment

4. Consider and Act on Other Business

5. Consider and Act on Motion to Adjourn the Open Session Meeting and Proceed to a Closed Session

Closed Session

6. Report on Evaluations of Vice President for Grants Management, Vice President for Government Relations & Public Affairs, Vice President for Legal Affairs and General Counsel, and Chief Financial Officer and Treasurer

7. Consider and Act on Motion to Adjourn the Meeting

Sunday, March 26, 2023

Communications Subcommittee of the Institutional Advancement Committee

Open Session

1. Approval of Agenda

2. Approval of Minutes of the Subcommittee's Open Session Meeting on January 23, 2023

3. Communications and Social Media Update

4. Public Comment

5. Consider and Act on Other Business

6. Consider and Act on Motion to Adjourn the Meeting

Monday, March 27, 2023

Finance Committee

Start Time: 8:30 a.m. (ET)

Open Session

1. Approval of Agenda

2. Approval of the Minutes of the Committee's Open Session Meeting on January 22, 2023

3. Approval of Minutes of the Committee's Closed Session Meeting on January 22, 2023

4. Discussion of LSC's FY 2024 Appropriations Request

5. Discussion Regarding Process and Timetable for FY 2025 Budget Request

6. Public Comment

7. Consider and Act on Other Business

8. Consider and Act on Motion to Adjourn the Meeting

Monday, March 27, 2023

Delivery of Legal Services Committee

Open Session

1. Approval of Agenda

2. Approval of Minutes of the Committee's Open Session Meeting on January 23, 2023

3. LSC Performance Criteria Update

4. Presentation on LSC Grantee Oversight, Compliance and Data

5. Public Comment

6. Consider and Act on Other Business

7. Consider and Act on a Motion to Adjourn the Meeting

Monday, March 27, 2023

Institutional Advancement Committee

Open Session

1. Approval of Agenda

2. Approval of Minutes of the Institutional Advancement Committee's Open Session Meeting on January 11, 2023

3. Update on Leaders Council and Emerging Leaders Council

4. Development Report

5. Public Comment

6. Consider and Act on Other Business

7. Consider and Act on Motion to Adjourn the Open Session Meeting and Proceed to a Closed Session

Closed Session

1. Approval of Minutes of the Institutional Advancement Committee's Closed Session Meeting on January 11, 2023

2. Development Activities Report

3. Update on LSC's 50th Anniversary Fundraising Campaign

4. Consider and Act on Motion to Approve Leaders Council and Emerging Leaders Council Invitees

5. Consider and Act on Other Business

6. Consider and Act on Motion to Adjourn the Meeting

Monday, March 27, 2023

Combined Audit & Finance Committee

Open Session

1. Approval of Agenda

2. Presentation of Fiscal Year 2022 Annual Financial Audit

3. Consider and Act on Motion to Suspend the Open Session Meeting and Proceed to a Closed Session

Closed Session

4. Management Briefing on Fiscal Year 2022 Annual Financial Audit

5. Opportunity to Ask Auditors Questions without Management Present

6. Communication by Corporate Auditor with those Charged with Governance Under Statement on Auditing Standard 114

7. Consider and Act on Motion to Adjourn the Closed Session Meeting and Resume the Open Session Meeting

Open Session

8. Consider and Act on Resolution #2023-XXX, Acceptance of the Draft Audited Financial Statements for Fiscal Year 2022 and Fiscal Year 2021

9. Public Comment

10. Consider and Act on Other Business

11. Consider and Act on Motion to Adjourn the Meeting

Tuesday, March 28, 2023

Board of Directors

Start Time: 8:30 a.m.

Open Session

1. Pledge of Allegiance

2. Approval of Agenda

3. Approval of Minutes of the Board's Open Session Meeting on January 23, 2023

4. Chairman's Report

5. Members' Reports

6. President's Report

7. Inspector General's Report

8. Consider and Act on Resolution #2023-XXX: In Recognition and Appreciation of Rebecca Fertig Cohen

9. Consider and Act on the Report of the Operations and Regulations Committee, following its Virtual Meeting on March 13, 2023

10. Consider and Act on the Report of the Audit Committee

11. Consider and Act on the Report of the Governance and Performance Review Committee

12. Consider and Act on the Report of the Finance Committee

13. Consider and Act on the Report of the Delivery of Legal Services Committee

14. Consider and Act on the Report of the Institutional Advancement Committee

15. Consider and Act on the Report of the Combined Audit and Finance Committees

16. Public Comment

17. Consider and Act on Other Business

18. Consider and Act on Whether to Authorize a Closed Session of the Board to Address Items Listed Below

Closed Session

1. Approval of Minutes of the Committee to Explore Options for LSC Office Space Meetings on January 10 and January 17, 2023

2. Approval of Minutes of the Board's Closed Session Meeting on January 23-24, 2023

3. Management Briefing

4. Inspector General Briefing

5. Consider and Act on General Counsel's Report on Potential and Pending Litigation Involving Legal Services Corporation

6. Consider and Act on Report and Recommendation of the Search Committee for LSC Inspector General

7. Consider and Act on List of Prospective Leaders Council and Emerging Council Invitees

8. Consider and Act on Motion to Adjourn the Meeting

Please refer to the LSC website (https://lsc.gov/events/board-directors-quarterly-meeting-march-26-28-2023-washington-dc) for the final schedule and meeting agendas in electronic format. These materials will be made available at least 24 hours in advance of the meeting start time.

CONTACT PERSON FOR MORE INFORMATION: Cheryl DuHart, Administrative Coordinator, Office of Legal Affairs, at (202) 295-1621. Questions may also be sent by electronic mail to duhartc@lsc.gov.

Non-Confidential Meeting Materials: Non-confidential meeting materials will be made available in electronic format at least 24 hours in advance of the meeting on the LSC website, at https://www.lsc.gov/about-lsc/board-meeting-materials.

Authority: 5 U.S.C. 552b.

Dated: March 17, 2023.
Stefanie Davis,
Senior Associate General Counsel for Regulations. Legal Services Corporation.

[FR Doc. 2023-05872 Filed 3-17-23; 4:15 pm]

BILLING CODE 7050-01-P